DEPARTMENT OF COMMERCE

Submission for OMB Review; Comment Request

The Department of Commerce will submit to the Office of Management and Budget (OMB) for clearance the following proposal for collection of information under the provisions of the Paperwork Reduction Act (44 U.S.C. chapter 35).

Agency: Office of the Chief Information Officer, Office of the Secretary, Commerce.

Title: The Research Performance Progress Report.

OMB Control Number: 0690-0032.

Form Number(s): None.

Type of Request: Revision of a currently approved collection.

Estimated Number of Respondents: 2,550.

Estimated Time per Response: 5 hours.

Estimated Total Annual Burden Hours: 12,750.

Needs and Uses: The development of the Research Performance Progress Report (RPPR) resulted from an initiative of the Research Business Models (RBM), an Interagency Working Group of the Social, Behavioral & Economic Research, Subcommittee of the Committee on Science (CoS), a committee of the National Science and Technology Council (NSTC). One of the RBM Subcommittee's priority areas was to create greater consistency in the administration of Federal research awards. Given the increasing complexity of interdisciplinary and interagency research, it is important for Federal agencies to manage awards in a similar fashion. The RPPR is an OMB approved uniform format to be used by Federal agencies in submission of progress reports that support research and research-related activities. It is intended to replace other performance reporting formats currently in use by Federal agencies. However, the RPPR does not change the performance reporting requirements specified in 2 CFR 200.

Affected Public: Individuals or households; Business or other for-profit organizations; Not-for-profit institutions; State, Local, or Tribal government; Federal government.

Respondent's Obligation: Mandatory.

Legal Authority: The Federal Financial Assistance Management Improvement Act of 1999 (Pub. L. 106-107), and 2 CFR 200.328.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-13512 Filed 6-22-18; 8:45 am]

BILLING CODE 3510-17-P